DEPARTMENT OF THE INTERIOR

Bureau of Land Management

[CO-930; COC-64599]

Proposed Withdrawal; Opportunity for Public Meeting; Colorado

AGENCY: Bureau of Land Management, Interior.

ACTION: Notice.

SUMMARY: The U.S. Department of Agriculture, Forest Service, proposes to withdraw approximately 12,867 acres of National Forest System lands for 20 years to provide management alternatives. This notice closes this land to location and entry under the mining laws for up to two years. The lands remain open to mineral leasing.

DATES: Comments on this proposed withdrawal must be received on or before March 8, 2001.

ADDRESSES: Comments should be sent to the Colorado State Director, 2850 Youngfield Street, Lakewood, Colorado 80215-7093.

FOR FURTHER INFORMATION CONTACT: Doris E. Chelius, 303-239-3706.

SUPPLEMENTARY INFORMATION: On November 27, 2000, the Department of Agriculture, Forest Service, filed an application to withdraw the following described National Forest System lands from location and entry under the United States mining laws (30 U.S.C. Ch 2), subject to valid existing rights:

Sixth Principal Meridian

White River National Forest

T. 5 S., R. 76 W.,

Sec. 3, W½SE¼;

Sec. 10, W½ and W½E½;

Sec. 14, Lots 1 thru 4, inclusive, N½NW¼, SE¼NW¼, and SE¼SW¼;

Sec. 15, lots 1 and 2, W½, N½NE¼, SW¼NE¼, S½SE¼, and NW¼SE¼.

T. 7 S., R. 77 W.,

Sec. 6, W½SW¼NW¼.

T. 6 S., R. 78 W.,

Sec. 14, lots 1, 2, and 3, S½N½, NW¼SW¼, N½SE¼, and W½W½SW¼SE¼;

Sec. 15, S½N½ and S½;

Sec. 16, SE¼SE¼;

Sec. 21, E½ and E½W½;

Sec. 22;

Sec. 23, lots 1 thru 4, inclusive, S½, W½NE¼ and W½E½NE¼;

Sec. 24, lots 4 thru 7, inclusive;

Sec. 25, lots 11 thru 16, inclusive;

Sec. 26, lots 3 thru 12, inclusive, and NW¼;

Sec. 27;

Sec. 28, E½ and E½E½W½;

Sec. 29, E½NW¼SE¼;

Sec. 33, E¼.

T. 7 S., R. 78 W.,

Sec. 3, S½SW¼ and S½N½SW¼;

Sec. 4, E½E½;

Sec. 7, lands in NW¼SW¼ and SE¼SE¼;

Sec. 9, E½E½;

Sec. 10, S½, NW¼, and S½NE¼;

Sec. 11, S½SW¼ and NW¼SW¼;

Sec. 12, NW¼SE¼;

Sec. 13, NW¼NW¼;

Sec. 14, N½;

Sec. 15, N½;

Sec. 16, E½NE¼.

T. 6 S., R. 79 W.,

Sec. 27, W½NE¼NE¼, W½NE¼, N½SE¼NE¼, SW¼SE¼NE¼, E½NW¼, N½SW¼, SW¼SW¼, N½SE¼SW¼, SW¼SE¼SW¼, N½NW¼SE¼, SW½NW½SE¼, and NW¼NE¼SE¼;

Sec. 34, S½NW¼, NW¼NW¼, SW¼NE¼NW¼, and SW¼.

T. 7 S., R. 79 W.,

Sec. 3, NW¼, W½E½SW¼, W½SW¼, and SE¼SE¼SW¼;

Sec. 4, E½;

Sec. 9, E½;

Sec. 10, S½, NW¼, S½NW¼NE¼, SW¼NE¼, NW¼NW¼NE¼ and SW¼SE¼NE¼;

Sec. 11, S½S½, S½N½S½, and N½NW¼SW¼;

Sec. 12, S½S½ and S½N½S½;

Sec. 14, N½N½.

T. 5 S., R. 80 W.,

Sec. 19, lot 3 and 4, and E½SW¼;

Sec. 30 NW¼, W½NE¼, and N½S½.

T. 5 S., R. 81 W.,

Sec. 24, lots 1, 2,and 6 thru 13 inclusive;

Sec. 25, lots 1 thru 8, inclusive.

T. 5 S., R. 82 W.,

Sec. 22, N½NE¼, SW¼NE¼, and NW¼SE¼.

The areas described aggregate approximately 12,867 acres of National Forest System lands in Eagle and Summit Counties. This order excludes any privately owned lands within the described areas.

The purpose of this withdrawal is to allow the Forest Service management alternatives in managing these lands.

For a period of 90 days from the date of publication of this notice, all parties who wish to submit comments, suggestions, or objections in connection with this proposed withdrawal, may present their views in writing to the Colorado State Director. A public meeting will be scheduled and conducted in accordance with 43 CFR 2310.3-1(c)(2). Notice of the time and place of the meeting will be published in the Federal Register.

This application will be processed in accordance with the regulations set forth in 43 CFR part 2310.

For a period of two years from the date of publication in the Federal Register, this land will be segregated from the mining laws as specified above, unless the application is denied or canceled or the withdrawal is approved prior to that date. During this period the Forest Service will continue to manage these lands.

Jenny L. Saunders,
Realty Officer.

[FR Doc. 00-31259 Filed 12-7-00; 8:45 am]

BILLING CODE 3410-11-P